INTERNATIONAL TRADE COMMISSION

[Investigation Nos. 701-TA-382 and 731-TA-798-803 (Second Review)]

Stainless Steel Sheet and Strip From Germany, Italy, Japan, Korea, Mexico, and Taiwan

Determination

On the basis of the record ¹ developed in the subject five-year reviews, the United States International Trade Commission (Commission) determines, pursuant to section 751(c) of the Tariff Act of 1930 (19 U.S.C.1675(c)), that revocation of the antidumping duty orders on stainless steel sheet and strip from Germany, Italy, and Mexico ² would not be likely to lead to continuation or recurrence of material injury to an industry in the United States within a reasonably foreseeable time and that revocation of the countervailing duty order on stainless steel sheet and strip from Korea and revocation of the antidumping duty orders on stainless steel sheet and strip from Japan, Korea, and Taiwan ³ would be likely to lead to continuation or recurrence of material injury to an industry in the United States within a reasonably foreseeable time.

¹ The record is defined in sec. 207.2(f) of the Commission's Rules of Practice and Procedure (19 CFR 207.2(f)).

² Commissioner Charlotte R. Lane dissenting with respect to stainless steel sheet and strip from Germany, Italy, and Mexico, and Commissioner Dean A. Pinkert dissenting with respect to stainless steel sheet and strip from Mexico.

³ Chairman Deanna Tanner Okun and Commissioner Daniel R. Pearson dissenting with respect to stainless steel sheet and strip from Japan, Korea, and Taiwan.

Background

The Commission instituted this review on June 1, 2010 (75 FR 30437) and determined on September 7, 2010 that it would conduct a full review (75 FR 59744, September 28, 2010). Notice of the scheduling of the Commission's review and of a public hearing to be held in connection therewith was given by posting copies of the notice in the Office of the Secretary, U.S. International Trade Commission, Washington, DC, and by publishing the notice in the Federal Register on December 27, 2010 (75 FR 81308). The hearing was held in Washington, DC, on May 25, 2011, and all persons who requested the opportunity were permitted to appear in person or by counsel.

The Commission transmitted its determination in these reviews to the Secretary of Commerce on July 27, 2011. The views of the Commission are contained in USITC Publication 4244 (July 2011), entitled Stainless Steel Sheet and Strip From Germany, Italy, Japan, Korea, Mexico, and Taiwan: Investigation Nos. 701-TA-382 and 731-TA-798-803 (Second Review).

Issued: July 27, 2011.
By order of the Commission.
James R. Holbein,
Secretary to the Commission.

[FR Doc. 2011-19475 Filed 8-1-11; 8:45 am]

BILLING CODE 7020-02-P